DEPARTMENT OF LABOR

Employment and Training Administration

[TA-W-57,908]

Casair, Inc.; Stanton, MI; Notice of Termination of Investigation

Pursuant to Section 221 of the Trade Act of 1974, as amended, an investigation was initiated on September 9, 2005 in response to a worker petition filed by a company official on behalf of workers at Casair, Inc., Stanton, Michigan.

An active certification covering the petitioning group of workers is already in effect (TA-W-57,399, as amended). Consequently, further investigation in this case would serve no purpose, and the investigation has been terminated.

Signed at Washington, DC this 15th day of September 2005.
Richard Church,
Certifying Officer, Division of Trade Adjustment Assistance.

[FR Doc. E5-5484 Filed 10-5-05; 8:45 am]

BILLING CODE 4510-30-P